DEPARTMENT OF HEALTH AND HUMAN SERVICES

Centers for Medicare & Medicaid Services

[CMS-3116-N]

Medicare Program; Request for Nominations for Members for the Medicare Coverage Advisory Committee

AGENCY: Centers for Medicare & Medicaid Services (CMS), HHS.

ACTION: Notice.

SUMMARY: This notice requests nominations for consideration for membership on the Medicare Coverage Advisory Committee.

DATES: Nominations will be considered if received at the designated address, as provided below, no later than 5 p.m. on June 30, 2003.

ADDRESSES: You may mail nominations for membership to the following address: Centers for Medicare & Medicaid Services, Office of Clinical Standards and Quality, Attention: Michelle Atkinson, 7500 Security Blvd., Mail Stop: Central Building 1-09-06, Baltimore, MD 21244.

A copy of the Secretary's Charter for the Medicare Coverage Advisory Committee (MCAC) can be obtained from Maria Ellis, Office of Clinical Standards and Quality, Centers for Medicare & Medicaid Services, 7500 Security Blvd., Mail Stop: Central Building 1-09-06, Baltimore, MD 21244, or by e-mail to mellis@cms.hhs.gov. The charter is also posted on the Web at http://www.cms.hhs.gov/mcac/default.asp.

FOR FURTHER INFORMATION CONTACT: Michelle Atkinson, Centers for Medicare & Medicaid Services, Office of Clinical Standards and Quality, 7500 Security Blvd., Baltimore, MD 21244, 410-786-2881.

SUPPLEMENTARY INFORMATION:

Background

On December 14, 1998, we published a notice in the Federal Register (63 FR 68780) announcing establishment of the Medicare Coverage Advisory Committee (MCAC). The Secretary signed the initial charter for the MCAC on November 24, 1998. The charter has been renewed by the Secretary and will terminate on November 24, 2004, unless renewed again by the Secretary.

The Medicare Coverage Advisory Committee is governed by provisions of the Federal Advisory Committee Act, Public Law 92-463, as amended (5 U.S.C. App. 2), which sets forth standards for the formulation and use of advisory committees, and authorized by section 222 of the Public Health Service Act as amended (42 U.S.C. 217A).

The MCAC consists of a pool of 100 appointed members. Members are selected from among authorities in clinical medicine of all specialties, administrative medicine, public health, epidemiology and biostatistics, methodology of trial design, biologic and physical sciences, health care data and information management and analysis, the economics of health care, medical ethics, and other related professions. A maximum of 88 members are standard voting members, 12 are nonvoting members, 6 of which are representatives of consumer interests, and 6 of which are representatives of industry interests.

The MCAC functions on a committee basis. The committee reviews and evaluates medical literature, reviews technology assessments, and examines data and information on the effectiveness and appropriateness of medical items and services that are covered or eligible for coverage under Medicare. The Committee works from an agenda provided by the Designed Federal Official that lists specific issues, and develops technical advice to assist us in determining reasonable and necessary applications of medical services and technology when we make national coverage decisions for Medicare.

A few vacancies exist on the current MCAC roster, and terms for some members currently serving will expire in 2003. Accordingly, we are requesting nominations for both voting and nonvoting members to serve on the MCAC. Nominees are selected based upon their individual qualifications and not as representatives of professional associations or societies. We have a special interest in ensuring that women, minority groups, and physically challenged individuals are adequately represented on the MCAC. Therefore, we encourage nominations of qualified candidates from these groups.

All nominations must be accompanied by a curricula vitae. Nomination packages should be sent to Michelle Atkinson at the address above.

Criteria for Members

Nominees must have expertise and experience in one or more of the following fields: clinical medicine of all specialties, administrative medicine, public health, epidemiology and biostatistics, methodology of trial design, biologic and physical sciences, health care data and information management and analysis, the economics of health care, medical ethics, and other related professions.

We are also seeking nominations for nonvoting consumer and industry representatives. Nominees for these positions must possess appropriate qualifications to understand and contribute to the MCAC's work.

Nominations must state that the nominee is willing to serve as a member of the MCAC and appears to have no conflict of interest that would preclude membership. It would be very helpful if all curricula vitae included the following: date of birth, place of birth, social security number, title and current position, professional affiliation, home and business address, telephone and fax numbers, e-mail address, and list of expertise. In the nominations letter specify whether applying for voting member, industry representative, or consumer representative. Potential candidates will be asked to provide detailed information concerning such matters as financial holdings, consultancies, and research grants or contracts in order to permit evaluation of possible sources of conflict of interest.

Members are invited to serve for overlapping 4-year terms; terms of more than 2 years are contingent upon the renewal of the MCAC by appropriate action before its termination on November 24, 2004. A member may serve after the expiration of the member's term until a successor has taken office. Any interested person may nominate one or more qualified persons. Self-nominations are also accepted.

Authority: 5 U.S.C. App. 2, section 10(a)(1) and (a)(2).

(Catalog of Federal Domestic Assistance Program No. 93.774, Medicare-Supplementary Medical Insurance Program)

Dated: May 23, 2003.
Thomas A. Scully,
Administrator, Centers for Medicare & Medicaid Services.

[FR Doc. 03-13609 Filed 5-29-03; 8:45 am]

BILLING CODE 4120-01-P